ENVIRONMENTAL PROTECTION AGENCY

[FRL-9511-7]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 1850.06; NESHAP for Primary Copper Smelters; 40 CFR part 63 subparts A and QQQ; was approved on 01/10/2012; OMB Number 2060-0476; expires on 01/31/2015; Approved without change.

EPA ICR Number 1807.05; NESHAP for Pesticide Active Ingredient Production; 40 CFR part 63 subparts A and MMM; was approved on 01/10/2012; OMB Number 2060-0370; expires on 01/31/2015; Approved without change.

EPA ICR Number 2025.05; NESHAP for Friction Materials Manufacturing; 40 CFR part 63 subparts A and QQQQQ; was approved on 01/10/2012; OMB Number 2060-0481; expires on 01/31/2015; Approved without change.

EPA ICR Number 1985.05; NESHAP for Leather Finishing Operations; 40 CFR part 63 subparts A and TTTT; was approved on 01/10/2012; OMB Number 2060-0478; expires on 01/31/2015; Approved without change.

EPA ICR Number 2066.05; NESHAP for Engine Test Cells/Stands; 40 CFR part 63 subparts A and PPPPP; was approved on 01/10/2012; OMB Number 2060-0483; expires on 01/31/2015; Approved without change.

EPA ICR Number 1805.06; NESHAP for Chemical Recovery Combustion Sources at Kraft, Soda, Sulfite, and Stand-Alone Semichemical Pulp Mills; 40 CFR part 63 subparts A and MM; was approved on 01/10/2012; OMB Number 2060-0377; expires on 01/31/2015; Approved without change.

EPA ICR Number 1506.12; NSPS for Municipal Waste Combustors; 40 CFR part 60 subparts A, Ea and Eb; was approved on 01/10/2012; OMB Number 2060-0210; expires on 01/31/2015; Approved without change.

EPA ICR Number 2408.02; Recordkeeping and Reporting Related to E15 (Final Rule); 40 CFR 80.1501(b)(5), 80.1502(a) and 80.1503; was approved on 01/10/2012; OMB Number 2060-0675; expires on 01/31/2015; Approved with change.

EPA ICR Number 0107.10; Source Compliance and State Action Reporting (Renewal); 40 CFR part 51 subpart Q; was approved on 01/11/2012; OMB Number 2060-0096; expires on 01/31/2015; Approved without change.

EPA ICR Number 0940.24; Ambient Air Quality Surveillance (Final Rule for CO NAAQS); 40 CFR part 58; was approved on 01/17/2012; OMB Number 2060-0084; expires on 12/31/2014; Approved without change.

EPA ICR Number 2289.02; National Volatile Organic Compound (VOC) Emission Standards for Aerosol Coatings; 40 CFR part 59 subpart E; was approved on 01/30/2012; OMB Number 2060-0617; expires on 01/31/2015; Approved without change.

EPA ICR Number 2376.05; Regulation to Establish Mandatory Reporting of Greenhouse Gases (Final Rule for Petroleum and Natural Gas, Subpart W); 40 CFR part 98 subpart W; was approved on 01/30/2012; OMB Number 2060-0651; expires on 12/31/2013; Approved without change.

EPA ICR Number 1488.08; Superfund Site Evaluation and Hazard Ranking System (Renewal); 40 CFR part 300, Appendix A; and 40 CFR 300.425; was approved on 01/30/2012; OMB Number 2050-0095; expires on 01/31/2015; Approved without change.

EPA ICR Number 1425.08; Application for Reimbursement to Local Governments for Emergency Response to Hazardous Substance Releases Under CERCLA section 123 (Renewal); 40 CFR 310.2-310.9; 40 CFR 310.5; 40 CFR 310.10-310.12; and 40 CFR 310 Appendix II; was approved on 01/30/2012; OMB Number 2050-0077; expires on 01/31/2015; Approved without change.

EPA ICR Number 0982.10; NSPS for Metallic Mineral Processing Plants; 40 CFR part 60 subparts A and LL; was approved on 01/30/2012; OMB Number 2060-0016; expires on 01/31/2015; Approved without change.

EPA ICR Number 1057.12; NSPS for Sulfuric Acid Plants; 40 CFR part 60 subparts A and H; was approved on 01/30/2012; OMB Number 2060-0041; expires on 01/31/2015; Approved without change.

EPA ICR Number 1974.06; NESHAP for Cellulose Products Manufacturing; 40 CFR part 63 subparts A and UUUU; was approved on 01/30/2012; OMB Number 2060-0488; expires on 01/31/2015; Approved without change.

EPA ICR Number 0664.10; NSPS for Bulk Gasoline Terminals; 40 CFR part 60 subparts A and XX; was approved on 01/30/2012; OMB Number 2060-0006; expires on 01/31/2015; Approved without change.

EPA ICR Number 1716.08; NESHAP for Wood Furniture Manufacturing Operations; 40 CFR part 63 subparts Aand JJ; was approved on 01/30/2012; OMB Number 2060-0324; expires on 01/31/2015; Approved without change.

EPA ICR Number 1884.06; Final Rule Addendum to Partial Update of the TSCA Section 8(b) Inventory Data Base, Production and Site Reports (Chemical Data Reporting); 40 CFR parts 710 and 711; was approved on 01/31/2012; OMB Number 2070-0162; expires on 01/31/2015; Approved with change.

Comment Filed

EPA ICR Number 2438.01; NSPS for Onshore Natural Gas Processing Plants; in 40 CFR part 60 subparts KKK and LLL; OMB filed comment on 01/10/2012.

EPA ICR Number 2437.01; Standards of Performance for New Stationary Sources Oil and Natural Gas Production and Natural Gas Transmission and Distribution; in 40 CFR part 60 subparts A and OOOO; OMB filed comment on 01/10/2012.

EPA ICR Number 2445.01; NSPS for Nitric Acid Plants for which Construction, Reconstruction, or Modification Commenced After September 30, 2011; in 40 CFR part 60 subparts A and Ga; OMB filed comment on 01/10/2012.

EPA ICR Number 1160.10; NSPS/NESHAP for Wool Fiberglas Insulation Manufacturing Plants; in 40 CFR part 60 subparts A, NNN and PPP; OMB filed comment on 01/10/2012.

EPA ICR Number 2448.01; NESHAP for Ferroalloys; in 40 CFR part 63 subparts A and XXX; OMB filed comment on 01/27/2012.

EPA ICR Number 1799.06; NESHAP for Mineral Wool Production; in 40 CFR part 63 subparts A and DDD; OMB filed comment on 01/27/2012.

EPA ICR Number 0783.61; Certification and In-use Testing of Motor Vehicles: Revisions to Reduce Light-Duty Vehicle Emissions of Greenhouse Gases: Model Years 2017-2025 (Proposed Rule); in 40 CFR part 85 and 86; 40 CFR 85.1901-1908; 40 CFR part 86.1845-86.1848; 40 CFR part 600; OMB filed comment on 01/29/2012.

EPA ICR Number 1360.11; Underground Storage Tanks: Technical and Financial Requirements, and State Program Approval Procedures (Proposed Rule); in 40 CFR parts 280 and 281; OMB filed comment on 01/30/2012.

Short Term Approvals

EPA ICR Number 2298.02: NESHAP for Nine Metal Fabrication and Finishing Source Categories (40 CFR part 63 subpart XXXXXX) was granted a short term approval to 04/30/2012 on 01/27/2012.

EPA ICR Number 2152.04: Clean Air Interstate Rule to Reduce Interstate Transport of Fine Particle Matter and Ozone was granted a short term approval to 05/31/2012 on 01/18/2012.

EPA ICR Number 1139.08: TSCA Section 4 Test Rules, Consent Orders, Test Rule Exemptions, and Voluntary Data Submission was granted a short term approval to 04/30/2012 on 01/31/2012.

John Moses,
Director, Collections Strategies Division.

[FR Doc. 2012-3125 Filed 2-9-12; 8:45 am]

BILLING CODE P